DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2023, through July 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Nicole Martelli on behalf of S.M., Sturbridge, Massachusetts, Court of Federal Claims No: 23-1015V

2. Jeannette Alvarez, Lakewood, Colorado, Court of Federal Claims No: 23-1024V

3. Jason Olszanicky, San Marcos, California, Court of Federal Claims No: 23-1026V

4. William Woods, Boston, Massachusetts, Court of Federal Claims No: 23-1037V

5. Angela Walker, St. Paul, Minnesota, Court of Federal Claims No: 23-1038V

6. Kelly Dziuban, Chadwicks, New York, Court of Federal Claims No: 23-1049V

7. Sandra Meneses Hernandez, Alexandria, Virginia, Court of Federal Claims No: 23-1050V

8. Sonia Borgelt, West Linn, Oregon, Court of Federal Claims No: 23-1051V

9. Mary Ditzian, Mount Joy, Pennsylvania, Court of Federal Claims No: 23-1052V

10. Faustina F. Ankomah, The Woodlands, Texas, Court of Federal Claims No: 23-1053V

11. Mikkel Prim, Phoenix, Arizona, Court of Federal Claims No: 23-1055V

12. Emily Mendez, South Miami, Florida, Court of Federal Claims No: 23-1056V

13. Steven S. Cohen, Atlanta, Georgia, Court of Federal Claims No: 23-1060V

14. Victoria Cramer and Clayton Huff on behalf of N.H., Boston, Massachusetts, Court of Federal Claims No: 23-1062V

15. Benjamin Riley, New York, New York, Court of Federal Claims No: 23-1063V

16. Aaron Woodard, Washington, District of Columbia, Court of Federal Claims No: 23-1065V

17. Alicia Sawyer on behalf of G.S., Woodstock, Georgia, Court of Federal Claims No: 23-1067V

18. John Hauck, Boston, Massachusetts, Court of Federal Claims No: 23-1069V

19. Joseph Abdulmassih on behalf of K.A., Worcester, Massachusetts, Court of Federal Claims No: 23-1070V

20. Steven A. Chapman, Blaine, Minnesota, Court of Federal Claims No: 23-1073V

21. Sophia Banks, Houston, Texas, Court of Federal Claims No: 23-1074V

22. Erica Brown, Richmond Hill, Georgia, Court of Federal Claims No: 23-1075V

23. Stephen Jordan, Peoria, Illinois, Court of Federal Claims No: 23-1076V

24. Debra A. Schiller Brainerd, Minnesota, Court of Federal Claims No: 23-1078V

25. Britney Vaughn, Martinsville, Virginia, Court of Federal Claims No: 23-1081V

26. John Luu, Richardson, Texas, Court of Federal Claims No: 23-1084V

27. Christine John, Santa Monica, California, Court of Federal Claims No: 23-1087V

28. Alexandra M. Gergel, White Marsh, Maryland, Court of Federal Claims No: 23-1088V

29. Madison E. Gergel, Plaquemine, Louisiana, Court of Federal Claims No: 23-1089V

30. Yaron Partovi, Mission Hills, California, Court of Federal Claims No: 23-1094V

31. Susan Jellison, Redding, California, Court of Federal Claims No: 23-1097V

32. Michelle Anderson, Phoenix, Arizona, Court of Federal Claims No: 23-1098V

33. Eileen M. Salas, Colton, California, Court of Federal Claims No: 23-1101V

34. Alivia Zhang, Fremont, California, Court of Federal Claims No: 23-1102V

35. Elena Borisevich, Griffin, Georgia, Court of Federal Claims No: 23-1114V

36. Christine Rockney, Goodyear, Arizona, Court of Federal Claims No: 23-1119V

37. Carolyn Scott, Durham, North Carolina, Court of Federal Claims No: 23-1121V

38. Roizy Teitelbaum on behalf of C.S., Toms River, New Jersey, Court of Federal Claims No: 23-1122V

39. Daniel Mitchell, Boscobel, Wisconsin, Court of Federal Claims No: 23-1126V

40. Deborah Butturini, Washington, District of Columbia, Court of Federal Claims No: 23-1129V

41. Dale Cutler, Provo, Utah, Court of Federal Claims No: 23-1133V

42. John Troy, Brownsville, Pennsylvania, Court of Federal Claims No: 23-1134V

43. Juanita Owens, San Mateo, California, Court of Federal Claims No: 23-1136V

44. Savanna Hodges, Plaquemine, Louisiana, Court of Federal Claims No: 23-1137V

45. Dorothy Christine Coleman, Baton Rouge, Louisiana, Court of Federal Claims No: 23-1141V

46. Christine Wilson, Myrtle Beach, South Carolina, Court of Federal Claims No: 23-1142V

47. David Horn, Sacramento, California, Court of Federal Claims No: 23-1144V

48. Donald Young, Charlottesville, Virginia, Court of Federal Claims No: 23-1147V

49. Raymond Williamson, Pelham, Alabama, Court of Federal Claims No: 23-1149V

50. Jane C. Schaefer, Mason, Ohio, Court of Federal Claims No: 23-1152V

51. Luanne Gochnour, Boise, Idaho, Court of Federal Claims No: 23-1153V

52. Bonnie Morman, Ottawa, Ohio, Court of Federal Claims No: 23-1154V

53. Richard Rogers, Dubuque, Iowa, Court of Federal Claims No: 23-1156V

54. Dennis Ngo, Sacramento, California, Court of Federal Claims No: 23-1157V

55. Michelle Brown-Wysocki, Dresher, Pennsylvania, Court of Federal Claims No: 23-1158V

56. Arianna Borgra, Joliet, Illinois, Court of Federal Claims No: 23-1159V

57. Jeremy Faulkner, Albuquerque, New Mexico, Court of Federal Claims No: 23-1160V

58. Kanako Yamanaka, Flower Mound, Texas, Court of Federal Claims No: 23-1162V

59. Rodney K. Hollis, Black River Falls, Wisconsin, Court of Federal Claims No: 23-1165V

60. Brian Dessecker, Dover, Ohio, Court of Federal Claims No: 23-1166V

61. Eunice Hawkins, Atlanta, Georgia, Court of Federal Claims No: 23-1168V

62. Joshua Brooks on behalf of A.B., Prattville, Alabama, Court of Federal Claims No: 23-1169V

63. Michele Alphonse, Houston, Texas, Court of Federal Claims No: 23-1170V

64. Natalie Parsons, Phoenix, Arizona, Court of Federal Claims No: 23-1172V

65. Kristin Matsuda on behalf of C.M., Phoenix, Arizona, Court of Federal Claims No: 23-1173V

66. Chester Bochenek on behalf of Eve Bochenek, Snyder, New York, Court of Federal Claims No: 23-1175V

67. Courtney Ramsey, Philadelphia, Pennsylvania, Court of Federal Claims No: 23-1176V

68. Franklin Mattu, White Plains, New York, Court of Federal Claims No: 23-1177V

69. Kelli Marie Lessila, Milwaukee, Wisconsin, Court of Federal Claims No: 23-1179V

70. Carmine Branagan, New York, New York, Court of Federal Claims No: 23-1185V

71. Heather Page, Boston, Massachusetts, Court of Federal Claims No: 23-1186V

72. Karye Burton on behalf of M.L., Fort Worth, Texas, Court of Federal Claims No: 23-1188V

73. Jaclyn Hallman, Coatesville, Pennsylvania, Court of Federal Claims No: 23-1189V

74. Susan Scricco, Shrewsbury, Massachusetts, Court of Federal Claims No: 23-1190V

75. Francine Riviere, Asheville, North Carolina, Court of Federal Claims No: 23-1191V

76. Diane Sincoff on behalf of E S., New York, New York, Court of Federal Claims No: 23-1192V

77. Santosh Joshi, Memphis, Tennessee, Court of Federal Claims No: 23-1233V

[FR Doc. 2023-18003 Filed 8-21-23; 8:45 am]

BILLING CODE 4165-15-P